DEPARTMENT OF THE INTERIOR

National Park Service

[NPS-WASO-NRNHL-DTS#-35088; PPWOCRADI0, PCU00RP14.R50000]

National Register of Historic Places; Notification of Pending Nominations and Related Actions

AGENCY: National Park Service, Interior.

ACTION: Notice.

SUMMARY: The National Park Service is soliciting electronic comments on the significance of properties nominated before December 24, 2022, for listing or related actions in the National Register of Historic Places.

DATES: Comments should be submitted electronically by January 23, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 24, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

ARIZONA

Pima County

Sam Hughes Neighborhood Historic District (Boundary Increase II), Roughly bounded by Speedway Blvd., Country Club Blvd., Broadway Blvd., and Campbell Ave., Tucson, BC100008614

ARKANSAS

Marion County

Mountain Village 1890, 1011 CS Woods Blvd., Bull Shoals, SG100008598

CONNECTICUT

New Haven County

Aeolian Company Factory Complex, 85 Tremont St., Meriden, SG100008602

Dudley Farm Historic District, 2351 Durham Rd., Guilford, SG100008609

New London County

Oil Mill Historic District, Gurley, Oil Mill, and Boston Post Rds., Waterford, SG100008593

MARYLAND

Harford County

Hirsch Residence, (Women In Maryland Architecture, 1920-1970 MPS), 605 Giles St., Havre de Grace, MP100008592

MICHIGAN

Menominee County

Anaem Omot, Address Restricted, Lake and Holmes vicinity, SG100008616

MISSISSIPPI

Lee County

Spring Hill Missionary Baptist Church, 589 North Green St., Tupelo, SG100008603

Washington County

Live Oak Cemetery, 1447 South Main St., Greenville, SG100008599

NEW YORK

Monroe County

Pines of Perinton Apartments, 1 White Pine Cir., Perinton vicinity, SG100008606

Oneida County

Avalon Knitting Company Mill, 728 Broad St., Utica, SG100008605

Orleans County

T.O. Castle and Son General Store, 12348 Maple Ridge Rd., Millville vicinity, SG100008604

PENNSYLVANIA

Allegheny County

Mellon Park, Roughly bounded by Shady, 5th, and Penn Aves.; Beechwood and Bakery Square Blvds.; and, Mellon Park Rd., Pittsburgh, SG100008596

York County

Hyson Schools Historic District, (Educational Resources of Pennsylvania MPS), Round Hill Church Rd., south of intersection with Hyson School Rd., East Hopewell Township, MP100008595

RHODE ISLAND

Newport County

St. Mary's Episcopal Church, 324 East Main Rd., Portsmouth, SG100008600

SOUTH CAROLINA

Charleston County

Phillips Community Historic District, SC 41, approx. between Virginia Rouse and Joe Rouse Rds., roughly bounded by Horlbeck Cr., Dunes West, and Park West, Mount Pleasant vicinity, SG100008589

Lexington County

Lakeview School, (Equalization Schools in South Carolina, 1951-1960), 1218 Batchelor St., West Columbia, MP100008590

SOUTH DAKOTA

Kingsbury County

First Methodist Episcopal Church of Lake Preston, 106 2nd St. NE, Lake Preston, SG100008611

WISCONSIN

Dane County

Paoli Co-Operative Creamery Company Plant, 6858 Paoli Rd., Montrose, SG100008612

Jackson County

Keefe, Franklin E. and Eva E., House, 221 North 3rd St., Black River Falls, SG100008607

Marinette County

Anaem Omot, Address Restricted, Wausaukee and Amburg vicinity, SG100008616

Milwaukee County

Oriental Theatre, 2216-2230 North Farwell Ave., Milwaukee, SG100008594

Schramka Funeral Home

608-612 East Burleigh St., Milwaukee, SG100008601

Additional documentation has been received for the following resource:

ARIZONA

Pima County

Sam Hughes Neighborhood Historic District (Additional Documentation), Roughly bounded by Speedway Blvd., Country Club Blvd., Broadway Blvd., and Campbell Ave., Tucson, AD00001363

Authority: Section 60.13 of 36 CFR part 60.

Dated: December 28, 2022.
Sherry A. Frear,
Chief, National Register of Historic Places/National Historic Landmarks Program.

[FR Doc. 2023-00029 Filed 1-5-23; 8:45 am]

BILLING CODE 4312-52-P